DEPARTMENT OF TRANSPORTATION

Federal Highway Administration

Environmental Impact Statement; Heber Valley Corridor, Wasatch County, Utah

AGENCY: Federal Highway Administration (FHWA), U.S. Department of Transportation (USDOT).

ACTION: Notice of intent to prepare an Environmental Impact Statement (EIS).

SUMMARY: FHWA, on behalf of the Utah Department of Transportation (UDOT), is issuing this notice to advise the public that an EIS will be prepared for proposed transportation improvements in the Heber Valley in Wasatch County, Utah.

FOR FURTHER INFORMATION CONTACT: Naomi Kisen, Environmental Program Manager, UDOT Environmental Services Division, 4501 South 2700 West, P.O. Box 148450, Salt Lake City, Utah 84114-8450; telephone: (801) 965-4005; email: nkisen@utah.gov. Craig Hancock, PE, Heber Valley Corridor Project Manager, UDOT Region Three, 658 North 1500 West, Orem, UT 84057; telephone: (801) 227-8034; email: chancock@utah.gov.

SUPPLEMENTARY INFORMATION: The environmental review, consultation, and other actions required by applicable federal environmental laws for this project are being or have been carried out by UDOT pursuant to 23 U.S.C. 327 and a Memorandum of Understanding dated January 17, 2017, and executed by FHWA and UDOT. UDOT, as the assigned National Environmental Policy Act (NEPA) agency, will prepare an EIS to evaluate transportation solutions to improve mobility through the Heber Valley and the operation of U.S. 40 in Wasatch County, Utah. The proposed project study area is centered on U.S. 40 from State Route (S.R.) 32 to the intersection with U.S. 189. The study area expands to include about 1.5 miles west of U.S. 40, 1.5 miles east of U.S. 40, and 1.5 miles south of the intersection of U.S. 40 and U.S. 189.

UDOT initiated an early scoping process in the spring of 2020 to provide information and solicit input before issuing this notice of intent. During early scoping, UDOT conducted a traffic and safety technical analysis and coordinated with agencies, stakeholders, and the public to identify transportation needs, preliminary alternatives, and potentially significant environmental issues. A public early scoping meeting was held on August 27, 2020. Based on early scoping, UDOT developed a draft purpose and need. The Draft Purpose and Need Technical Report and an Early Scoping Summary Report are available on the project website at https://hebervalleyeis.udot.utah.gov.

The preliminary purpose of this project as identified by UDOT is to improve regional and local mobility on U.S. 40 from S.R. 32 to U.S. 189 through 2050 while allowing Heber City to meet their vision for the historic town center. The need identified for the project is related primarily to traffic during peak periods, which is expected to get worse with increasing population. The primary needs include (1) the character and function of U.S. 40 changes from a 65-miles-per-hour (mph) limited-access freeway to a 35-mph Main Street in Heber City with signalized intersections, throughput is traded for increased access within Heber's historic core resulting in congestion and delay; (2) U.S. 40 is currently operating at failing conditions (level of service F) from 100 North to 100 South during the PM peak hour, and these conditions will continue to get worse by 2050; (3) all signalized intersections on U.S. 40 are currently operating at acceptable conditions, but they are expected to operate at failing conditions during the PM peak hour by 2050; (4) southbound travel time on U.S. 40 from S.R. 32 to U.S. 189 during the PM peak hour will double by 2050 if no improvements are made; and (5) queue lengths (vehicles backed up waiting to get through an intersection) during the PM peak hour will increase and spill back to other intersections and onto U.S. 40 north of town where the posted speed is 55 mph, resulting in safety concerns. Opportunities to provide for more active transportation (e.g., bicycle and pedestrian) will also be part of the EIS.

To address these needs UDOT is proposing to provide additional north-south capacity, either through constructing a bypass road or improving existing roads. UDOT will consider a range of alternatives based on the purpose of and need for the project and taking into account agency and public input. The currently contemplated alternatives include (1) taking no action; (2) improvements to U.S. 40 such as adding lanes and intersection improvements; (3) improvements to existing roads other than U.S. 40; (4) a one-way-couplet system; (5) a new bypass west of U.S. 40; (6) a new bypass east of U.S. 40; (7) Transportation System Management (TSM); (8) transit; and (9) other reasonable alternatives if identified during the EIS process. Alternatives that do not meet the project's purpose and need or that are otherwise not reasonable will not be carried forward for detailed consideration in the EIS.

During the early scoping process, the public and agencies identified issues important to the community and natural environment that should be evaluated in the EIS. Based on this input, the EIS will evaluate the expected impacts and benefits from the proposed project to the following resources: Land use, farmland, social and community resources, environmental justice, traffic, economics, pedestrian and bicyclist considerations, air quality, noise, water quality, ecosystem resources (wetlands, wildlife, and threatened and endangered species), floodplains, cultural resources, hazardous waste sites, and visual resources.

A coordination plan is being prepared to define the agency and public participation procedure for the environmental review process. The plan will establish cooperating and participating agency roles and a review schedule and will be posted on the project website. The project could require FHWA to reroute a U.S. highway on the National Network (highways designated for use by commercial truck traffic). The project might also require a permit from the U.S. Army Corps of Engineers (USACE) under Section 404 of the Clean Water Act and approvals from other agencies such as the U.S. Fish and Wildlife Service (USFWS) for impacts to threatened and endangered species in the project area. Cooperating agencies have been preliminarily identified to include USACE and the U.S. Environmental Protection Agency. UDOT anticipates issuing a single Final Environmental Impact Statement and Record of Decision within 24 months in spring 2023.

Public involvement is a critical component of the project development process and will continue throughout the development of the EIS. All individuals and organizations expressing interest in the project will be able to participate in the process through various public outreach opportunities. These opportunities include, but are not limited to, public meetings and hearing(s), the project website, and press releases. Public notice will be given of the time and place of all public meetings and hearing(s). A public scoping meeting is not planned because one was held during the early scoping process. All interested parties are requested to provide comments on the draft purpose and need (available on the project website) and potential alternatives and impacts, and to identify any relevant information, studies or analyses of any kind concerning impacts affecting the quality of the human environment relevant to the project . Written comments or questions should be directed to UDOT representatives at the mail or email addresses provided above. A 45-day public comment period will run from April 30 to June 14, 2021.

For more information, please visit the project website at https://hebervalleyeis.udot.utah.gov. Information requests or comments can also be emailed to hebervalleyeis@utah.gov.

(Catalog of Federal and Domestic Assistance Program Number 20.205, Highway Research, Planning and Construction. The regulations implementing Executive Order 12372 regarding intergovernmental consultation on Federal programs and activities apply to this program.)

Ivan Marrero,
Division Administrator, Federal Highway Administration, Salt Lake City, Utah.

[FR Doc. 2021-09920 Filed 5-10-21; 8:45 am]

BILLING CODE P